DEPARTMENT OF ENERGY

Federal Energy Regulatory Commission

[Docket No. EL10-36-000]

Green Borders Geothermal, LLC, Complainant, v. Terra-Gen Dixie Valley, LLC, Respondent; Notice of Complaint

January 28, 2010.

Take notice that on January 25, 2010, Green Borders Geothermal, LLC (Green Borders) filed a formal complaint against Terra-Gen Dixie Valley, LLC (f/k/a Caithness Dixie Valley, LLC) (Terra-Gen) pursuant to section 206 of the Federal Power Act, and 18 CFR 385.206, alleging that Terra-Gen violated prior Federal Energy Regulatory Commission (Commission) Orders ¹ and the Commission's open access policies ² when it failed to file an Open Access Transmission Tariff and Large Generator Interconnection Agreement with the Commission once Green Borders requested open access interconnection and transmission service on Terra-Gen's Dixie Valley Line that extends from Churchill County, Nevada through Mineral County, Nevada and ultimately interconnects with Southern California Edison Company's (“SCE”) transmission system at SCE's Control Substation within the California Independent System Operator Corp.'s Control Area.

¹ Oxbow Power Marketing, Inc., 76 FERC ¶ 61, 031 (1996) and Oxbow Power Marketing, Inc., 79 FERC ¶ 61, 193.

² Promoting Wholesale Competition Through Open Access Non-Discriminatory Transmission Servs. by Pub. Utils.; Recovery of Stranded Costs by Pub. Utils. and Transmitting Utilities, Order No. 888, FERC Stats. & Regs. ¶ 31,036 (1996), order on reh'g, Order No. 888-A, FERC Stats. & Regs. ¶ 31,048 (1997), order on reh'g, Order No. 888-B, 81 FERC ¶ 61,248 (1997), order on reh'g, Order No. 888-C, 82 FERC ¶ 61,046 (1998), aff'd in part and rev'd in part sub nom. Transmission Access Policy Study Group, et al. v. FERC, 225 F.3d 667 (D.C. Cir. 2000), cert. granted in part and denied in part, New York v. FERC, 535 U.S. 1 (2002); see also Preventing Undue Discrimination and Preference in Transmission Serv., Order No. 890, FERC Stats. & Regs. ¶ 31,241, order on reh'g, Order No. 890-A, FERC Stats. & Regs. ¶ 31,261 (2007), order on reh'g and clarification, Order No. 890-B, 123 FERC ¶ 61,299 (2008), order on reh'g and clarification, Order No. 890-C, 126 FERC ¶ 61,228 (2009), order on reh'g and clarification, Order No. 890-D, 129 FERC ¶ 61,126 (2009).

Green Borders certifies that copies of the complaint were served on the contacts for Terra-Gen, as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 26, 2010.

Kimberly D. Bose,
Secretary.

[FR Doc. 2010-2269 Filed 2-3-10; 8:45 am]

BILLING CODE 6717-01-P